DEPARTMENT OF THE INTERIOR

National Park Service

Fire Management Plan; Santa Monica Mountains National Recreation Area Lost Angeles and Ventura Counties, California; Notice of Scoping to Prepare Environmental Document

SUMMARY: Notice is hereby given, in accordance with the provisions of the National Environmental Policy Act (42 U.S.C. 4321 et. seq.) that public scoping has been initiated for a conservation planning and impact analysis process for updating the current fire management plan at Santa Monica Mountains National Recreation Area. The purpose of the scoping process is to elicit early public comment regarding issues and concerns, a suitable range of alternatives and appropriate mitigating measures, and the nature and extent of potential environmental impacts which should be addressed.

Background: The Santa Monica Mountains National Recreation Area is a 150,000 acre unit of the National Park System. Naturally occurring fire is an important ecological process in maintaining the native plant communities of the park, but wildfire poses a hazard to life and property at the urban/wildland interface areas. The park has had a fire management program since 1986; the plan was updated in 1994. The park utilizes a limited number of forms of fire management to achieve natural and cultural resource management and hazard fuel reduction goals including complete suppression, prescribed burning and mechanical fuel reduction.

The current environmental impact analysis of the park's fire management program was initiated in 1986 and culminated in a Finding Of No Significant Impact. Since that time, a spectrum of new issues, improved information, and unforeseeable constraints have emerged which have the potential to affect the future direction of the fire management program within the park. Some of these factors include but are not limited to: a potential decline in ecosystem health due to anthropogenically increased fire frequency, increased hazards and costs associated with fire suppression at the urban/wildland interface, and more stringent air quality regulations.

Information and Comment: As noted, the National Park Service will undertake a conservation planning and environmental impact analysis effort to address issues and concerns regarding any update in the current fire management program, and identify new alternatives for fire management in the Santa Monica Mountains National Recreation Area. At this time, it has not been determined whether an Environmental Assessment or Environmental Impact Statement will be prepared, however, this scoping process will aid in this determination.

As an early step in this undertaking, a series of four public scoping meetings will be conducted in April, 2002. California cities where scoping meetings will be held are: Calabasas/Agoura Hills, Malibu, Beverly Hills, and Thousand Oaks. For those unable to attend meetings, a scoping document will be available upon request. The main topics to be addressed in the scoping document and meetings are: background information on the fire management program; a review of relevant policy and law affecting the fire management program; an assessment of current fire management needs; and the identification of issues and potential alternatives related to future fire management in the park. All interested individuals, organizations, and agencies are encouraged to provide comments or suggestions. Written comments regarding the fire management program update must be postmarked no later than August 31, 2002.

For confirmed details about the scoping meetings, or to request a copy of the scoping background material and provide comments, please contact: Superintendent, Santa Monica Mountains National Recreation Area; Attn: Corrina Marote B—Fire Management Plan; 401 West Hillcrest Drive, Thousand Oaks, California 91360 or via telephone at (805) 370-1845.

If individuals submitting comments request that their name or/and address be withheld from public disclosure, it will be honored to the extent allowable by law. Such requests must be stated prominently in the beginning of the comments. There also may be circumstances wherein the NPS will withhold a respondent's identity as allowable by law. As always: NPS will make available to public inspection all submissions from organizations or businesses and from persons identifying themselves as representatives or officials of organizations and businesses; and, anonymous comments may not be considered.

Decision: The official responsible for final approval is the Regional Director, Pacific West Region, National Park Service. Subsequently, the official responsible for implementation would be the Superintendent, Santa Monica Mountains National Recreation Area. The draft fire management plan and environmental document are expected to be available for public review in June, 2002. At this time it is anticipated that the final plan and environmental document are to be completed in October, 2002.

Dated: February 8, 2002.
John J. Reynolds,
Regional Director, Pacific West.

[FR Doc. 02-7249 Filed 3-25-02; 8:45 am]

BILLING CODE 4310-70-P